DEPARTMENT OF THE INTERIOR

Fish and Wildlife Service

[FWS-R8-ES-2013-N103; FXES11130800000-134-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before June 10, 2013.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9618).

SUPPLEMENTARY INFORMATION: The following applicants have applied for scientific research permits to conduct certain activities with endangered species under section 10(a)(1)(A) of the Act (16 U.S.C. 1531 et seq.). We seek review and comment from local, State, and Federal agencies and the public on the following permit requests.

Applicant

Permit No. TE-207873

Applicant: Carol Thompson, Riverside, California

The applicant requests a permit renewal to take (monitor nests) the least Bell's vireo (Vireo bellii pusillus), and take (survey, capture, handle, and release) the Stephens' kangaroo rat (Dipodomys stephensi); and an amendment to take (survey, capture, handle, and release) the San Bernardino kangaroo rat (Dipodomys merriami parvus) in conjunction with population monitoring and survey activities throughout the range of each species in California for the purpose of enhancing the species' survival.

Permit No. TE-040553

Applicant: Daniel Marshalek, Madison, Wisconsin

The applicant requests a permit renewal to take (survey by pursuit) the Quino checkerspot butterfly (Euphydryas editha quino) and an amendment to take (survey by pursuit) the Laguna mountains skipper (Pyrgus ruralis lagunae) in conjunction with surveys throughout the range of each species in California for the purpose of enhancing the species' survival.

Permit No. TE-025732

Applicant: Samuel S. Sweet, Santa Barbara, California

The applicant requests a permit renewal to take (harass by survey, capture, handle, mark, tag, take biological samples, and release) the California tiger salamander (Santa Barbara County DPS and Sonoma County DPS) (Ambystoma californiense); and take (capture, handle, take biological samples, restrain, and maintain in enclosures in-stream, release, and relocate) the arroyo toad (a. southwestern t.) (Anaxyrus californicus (Bufo microscaphus c.)) in conjunction with surveys, population monitoring, and research activities in Santa Barbara, San Luis Obispo, Ventura, and Los Angeles Counties, California, for the purpose of enhancing the species' survival.

Permit No. TE-834488

Applicant: Gregg B. Miller, Orange, California

The applicant requests a permit renewal to take (survey, capture, handle, and release) the San Bernardino kangaroo rat (Dipodomys merriami parvus) and take (survey, capture, handle, measure, mark, and release) the Pacific pocket mouse (Perognathus longimembris pacificus) in conjunction with survey activities in San Bernardino, Riverside, San Diego, Los Angeles, and Orange Counties, California, for the purpose of enhancing the species' survival.

Permit No. TE-823990

Applicant: Sandra J. Schultz, Los Osos, California

The applicant requests a permit renewal to take (survey, locate, and monitor nests) the California least tern (Sternula antillarum browni) (Sterna a. b.) in conjunction with survey activities in Santa Barbara and San Luis Obispo Counties, California, for the purpose of enhancing the species' survival.

Permit No. TE-804203

Applicant: Stephen J. Meyers, Moreno Valley, California

The applicant requests a permit renewal to take (harass by survey and locate and monitor nests) the southwestern willow flycatcher (Empidonax traillii extimus); take (locate and monitor nests, capture, handle, measure, weigh, band, color-band, release) the least Bell's vireo (Vireo belli pusillus); take (harass by survey) the Yuma clapper rail (Rallus longirostris yumanensis); take (survey by pursuit) the Quino checkerspot butterfly (Euphydryas editha quino); and take (capture, handle, and release) the Stephens' kangaroo rat (Dipodomys stephensi) and San Bernardino kangaroo rat (Dipodomys merriami parvus) in conjunction with survey and population activities throughout the range of each species in California, Nevada, Arizona, New Mexico, Utah, and Colorado (as applicable) for the purpose of enhancing the species' survival.

Permit No. TE-17841A

Applicant: Tetra Tech Incorporated, Santa Barbara, California

The applicant requests a permit renewal to take (survey by pursuit) the El Segundo blue butterfly (Euphilotes battoides allyni) in conjunction with surveys throughout the range of the species in California for the purpose of enhancing the species' survival.

Permit No. TE-798017

Applicant: Dana C. Bland, Aptos, California

The applicant requests a permit renewal to take (harass by survey, capture, handle, mark, and release) the California tiger salamander (Santa Barbara County DPS and Sonoma County DPS) (Ambystoma californiense); and take (capture, handle, mark, release, and collect) the Santa Cruz long-toed salamander (Ambystoma macrodactylum croceum), in conjunction with surveys and research activities throughout the range of each species in California for the purpose of enhancing the species' survival.

Permit No. TE-780556

Applicant: Ruben S. Ramirez, Oceanside, California

The applicant requests a permit renewal to take (capture, handle, and release) the Pacific pocket mouse (Perognathus longimembris pacificus) and San Bernardino kangaroo rat (Dipodomys merriami parvus); and take (capture, tag, and release) the arroyo toad (a. southwestern t.) (Anaxyrus californicus (Bufo microscaphus c.)) in conjunction with surveys and research activities throughout the range of each species in California for the purpose of enhancing the species' survival.

Permit No. TE-782703

Applicant: Michael C. Couffer, Corona del Mar, California

The applicant requests a permit renewal to take (survey by pursuit) the Quino checkerspot butterfly (Euphydryas editha quino) in conjunction with surveys throughout the range of the species in California for the purpose of enhancing the species' survival.

Permit No. TE-839213

Applicant: David P. Muth, Martinez, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with surveys throughout the range of each species in California for the purpose of enhancing the species' survival.

Permit No. TE-157199

Applicant: Julie A. Stout, San Diego, California

The applicant requests a permit renewal to take (survey, locate, and monitor nests) the California least tern (Sternula antillarum browni) (Sterna a. b.) in conjunction with survey activities throughout the range of the species in California for the purpose of enhancing the species' survival.

Permit No. TE-200340

Applicant: Andrew R. Hatch, South Lake Tahoe, California

The applicant requests a permit renewal to take (harass by survey, capture, handle, and release) the California tiger salamander (Santa Barbara County DPS and Sonoma County DPS) (Ambystoma californiense) in conjunction with surveys and population studies throughout the range of the species in California for the purpose of enhancing the species' survival.

Permit No. TE-181714

Applicant: University of Colorado, Boulder, Colorado

The applicant requests an amendment to a permit to take (survey, capture, handle, take biological samples, and release) the Santa Cruz long-toed salamander (Ambystoma macrodactylum croceum) in conjunction with surveys and research activities throughout the range of the species in California for the purpose of enhancing the species' survival.

Permit No. TE-837308

Applicant: John K. Konecny, Escondido, California

The applicant requests a permit renewal to take (harass by survey, locate and monitor nests, capture, band, release, and remove brown-headed cowbird (Molothrus ater) eggs and chicks from parasitized nests) the southwestern willow flycatcher (Empidonax traillii extimus); take (locate and monitor nests, capture, band, release, and remove brown-headed cowbird eggs and chicks from parasitized nests) the least Bell's vireo (Vireo bellii pusillus); take (survey, locate and nest monitor, nest mark, capture, band, and release) the California least tern (Sternula antillarum browni) (Sterna a. b.); take (harass by survey) the light-footed clapper rail (Rallus longirostris levipes) and Yuma clapper rail (Rallus longirostris yumanensis); and take (capture, handle, and release) the arroyo toad (a. southwestern t.) (Anaxyrus californicus (Bufo microscaphus c.)) in conjunction with surveys, population studies, and research activities throughout the range of each species in California for the purpose of enhancing the species' survival.

Permit No. TE-166383

Applicant: Michael F. Westphal, Hollister, California

The applicant requests a permit renewal to take (capture, handle, take biological samples, and release) the blunt-nosed leopard lizard (Gambelia silus) in conjunction with surveys, population studies, and research activities throughout the range of the species in California for the purpose of enhancing the species' survival.

Permit No. TE-170389

Applicant: Travis B. Cooper, San Juan Capistrano, California

The applicant requests a permit renewal to take (survey by pursuit) the El Segundo blue butterfly (Euphilotes battoides allyni); and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with surveys and population monitoring throughout the range of each species in California for the purpose of enhancing the species' survival.

Permit No. TE-99477A

Applicant: Benjamin S. Wallace, Fairfield, California

The applicant requests a permit to take (harass by survey, capture, handle, and release) the California tiger salamander (Santa Barbara County DPS and Sonoma County DPS) (Ambystoma californiense); and take (capture, collect, and collect vouchers) the Conservancy fairy shrimp (Branchinecta conservatio), longhorn fairy shrimp (Branchinecta longiantenna), and vernal pool tadpole shrimp (Lepidurus packardi) in conjunction with surveys and population monitoring in Solano, Yolo, Sacramento, Contra Costa, and Alameda Counties, California, for the purpose of enhancing the species' survival.

Permit No. TE-225974

Applicant: Midpeninsula Regional Open Space District, Los Altos, California

The applicant requests a permit renewal to take (harass by survey, capture, handle, and release) the San Francisco garter snake (Thamnophis sirtalis tetrataenia) in conjunction with habitat management activities in San Mateo County, California, for the purpose of enhancing the species' survival.

Permit No. TE-31406A

Applicant: California State Parks, Channel Coast District, Ventura, California

The applicant requests an amendment to a permit to take (set up, use, and remove remote sensing cameras in occupied habitat) the California least tern (Sternula antillarum browni) (Sterna a. b.) in conjunction with survey activities in Santa Barbara and San Luis Obispo Counties, California, for the purpose of enhancing the species' survival.

Permit No. TE-99473A

Applicant: Joseph D. Henry, San Diego, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with surveys throughout the range of each species in California for the purpose of enhancing the species' survival.

Permit No. TE-814222

Applicant: California Department of Parks and Recreation, San Diego, California

The applicant requests a permit renewal to take (harass by survey, locate, and monitor nests, and remove brown-headed cowbird eggs (Molothrus ater) from nests) the southwestern willow flycatcher (Empidonax traillii extimus); take (locate and monitor nests and remove brown-headed cowbird eggs from nests) the least Bell's vireo (Vireo bellii pusillus); and take (harass by survey and locate and monitor nests) the California least tern (Sternula antillarum browni) (Sterna a. b.) in conjunction with survey and population monitoring activities on California State Park Lands in San Diego, Imperial, Orange, Riverside, and southwestern San Bernardino Counties, California, for the purpose of enhancing the species' survival.

Permit No. TE-01769B

Applicant: Jesse L. Reebs, San Francisco, California

The applicant requests a permit to take (harass by survey, capture, handle, and release) the California tiger salamander (Santa Barbara County DPS and Sonoma County DPS) (Ambystoma californiense) and the San Francisco garter snake (Thamnophis sirtalis tetrataenia) in conjunction with surveys and population studies throughout the range of the species in California for the purpose of enhancing the species' survival.

Permit No. TE-068745

Applicant: Jeffrey T. Wilcox, Berkeley, California

The applicant requests a permit amendment to take (harass by survey, capture, handle, tail clip, and release) the California tiger salamander (Santa Barbara County DPS and Sonoma County DPS) (Ambystoma californiense) in conjunction with surveys, population studies, and genetic research throughout the range of the species in California for the purpose of enhancing the species' survival.

Permit No. TE-824123

Applicant: SWCA Environmental Consultants, San Luis Obispo, California

The applicant requests a permit renewal to take (locate, capture, handle, measure, release, and relocate) the Morro shoulderband snail (Helminthoglypta walkeriana) in conjunction with surveys, relocation, and habitat enhancement activities in San Luis Obispo County, California, for the purpose of enhancing the species' survival.

Permit No. TE-035336

Applicant: John E. Vollmar, Berkeley, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi); take (harass by survey, capture, handle, and release) the California tiger salamander (Santa Barbara County DPS and Sonoma County DPS) (Ambystoma californiense) in conjunction with survey and restoration activities; and take (remove and reduce to possession from lands under Federal jurisdiction) the Amsinckia grandiflora (large-flowered fiddleneck) in conjunction with propagation and reintroduction activities throughout the range of each species in California for the purpose of enhancing the species' survival.

Permit No. TE-043630

Applicant: San Francisco Estuary Institute, Richmond, California

The applicant requests a permit renewal to take (harass by survey) the California clapper rail (Rallus longirostris obsoletus) in conjunction with survey activities throughout the extant range of the species within the jurisdiction of the Sacramento Fish and Wildlife Service Office, California, for the purpose of enhancing the species' survival.

Permit No. TE-01768B

Applicant: Brian E. Karpman, Costa Mesa, California

The applicant requests a permit to take (locate and monitor nests and remove brown-headed cowbird eggs (Molothrus ater) from nests) the least Bell's vireo (Vireo bellii pusillus) in conjunction with surveys and population monitoring activities throughout the range of the species in California for the purpose of enhancing the species' survival.

Permit No. TE-808242

Applicant: Scott D. Cameron, Santa Paula, California

The applicant requests a permit renewal to take (survey by pursuit) the Delhi Sands flower-loving fly (Rhaphiomidas terminatus abdominalis); and take (survey, capture, handle, and release) the Pacific pocket mouse (Perognathus longimembris pacificus) and arroyo toad (a. southwestern t.) (Anaxyrus californicus (Bufo microscaphus c.)) in conjunction with surveys and population monitoring activities throughout the range of each species in California for the purpose of enhancing the species' survival.

Permit No. TE-083348

Applicant: San Bernardino County Department of Public Works, San Bernardino, California

The applicant requests a permit renewal to take (survey, capture, handle, and release) the San Bernardino kangaroo rat (Dipodomys merriami parvus); and take (harass by survey) the southwestern willow flycatcher (Empidonax traillii extimus) in conjunction with survey activities in San Bernardino County, California, for the purpose of enhancing the species' survival.

Permit No. TE-797234

Applicant: LSA Associates, Point Richmond, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi); and take (harass by survey, capture, handle, and release) the California tiger salamander (Santa Barbara County DPS and Sonoma County DPS) (Ambystoma californiense) in conjunction with survey activities throughout the range of each species in California for the purpose of enhancing the species' survival.

Permit No. TE-036120

Applicant: Michael S. Powers, San Diego, California

The applicant requests a permit renewal to take (survey by pursuit) the Quino checkerspot butterfly (Euphydryas editha quino) in conjunction with surveys throughout the range of the species in California for the purpose of enhancing the species' survival.

Permit No. TE-204436

Applicant: Johanna M. Kisner, Orcutt, California

The applicant requests a permit renewal to take (survey, capture, handle, and release) the tidewater goby (Eucyclogobius newberryi) in conjunction with surveys and population monitoring activities throughout the range of each species in California with the exception of Mendocino, Humboldt, and Del Norte Counties, California, for the purpose of enhancing the species' survival.

Permit No. TE-050450

Applicant: Lisa D. Allen, San Juan Capistrano, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with surveys throughout the range of each species in California for the purpose of enhancing the species' survival.

Permit No. TE-27460A

Applicant: Brian A. Zitt, Santa Ana, California

The applicant requests a permit amendment to take (harass by survey, capture, handle, measure, and release) the mountain yellow-legged frog (southern California DPS) (Rana muscosa) in conjunction with surveys and population monitoring activities throughout the range of the species in California for the purpose of enhancing the species' survival.

Permit No. TE-02838B

Applicant: Summer L. Pardo, Sacramento, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with surveys throughout the range of each species in California for the purpose of enhancing the species' survival.

Permit No. TE-02785B

Applicant: Cheryl L. Davis, Concord, California

The applicant requests a permit to take (harass by survey, capture, handle, and release) the California tiger salamander (Santa Barbara County DPS and Sonoma County DPS) (Ambystoma californiense) in conjunction with surveys and population studies throughout the range of the species in California for the purpose of enhancing the species' survival.

Permit No. TE-37418A

Applicant: William T. Bean, Arcata, California

The applicant requests an amendment to a permit to take (survey, capture, handle, collect biological samples and hair tufts, and release) the giant kangaroo rat (Dipodomys ingens) in conjunction with genetic research activities throughout the range of the species in California for the purpose of enhancing the species' survival.

Permit No. TE-02578B

Applicant: Craig P. Seltenrich, Auburn, California

The applicant requests a permit to take (harass by survey, capture, handle, and release) the California tiger salamander (Santa Barbara County DPS and Sonoma County DPS) (Ambystoma californiense) in conjunction with surveys and population studies throughout the range of the species in California for the purpose of enhancing the species' survival.

Permit No. TE-101462

Applicant: Peter G. Sarafian, Los Osos, California

The applicant requests a permit to take (locate, capture, handle, measure, release, and relocate) the Morro shoulderband snail (Helminthoglypta walkeriana) in conjunction with surveys, relocation, and habitat enhancement activities throughout the range of the species in California for the purpose of enhancing the species' survival.

Permit No. TE-118356

Applicant: Olofson Environmental, Incorporated, Berkeley, California

The applicant requests a permit renewal to take (harass by survey) the California clapper rail (Rallus longirostris obsoletus) in conjunction with survey and research activities in Alameda, Contra Costa, Marin, Napa, San Francisco, San Mateo, Santa Clara, Solano, and Sonoma Counties, California, for the purpose of enhancing the species' survival.

Permit No. TE-095896

Applicant: Phillip C. Richards, Ladera Ranch, California

The applicant requests a permit renewal to take (capture, handle, and release) the Pacific pocket mouse (Perognathus longimembris pacificus), Stephens' kangaroo rat (Dipodomys stephensi), and San Bernardino kangaroo rat (Dipodomys merriami) in conjunction with survey activities in San Diego, Los Angeles, Orange, San Bernardino, Riverside, Ventura, and Santa Barbara Counties, California, for the purpose of enhancing the species' survival.

Permit No. TE-212445

Applicant: Robert A. Schell, Richmond, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) and take (harass by survey, capture, handle, collect tissue samples, and release) the California tiger salamander (Santa Barbara County DPS and Sonoma County DPS) (Ambystoma californiense) in conjunction with survey and research activities throughout the range of each species in California for the purpose of enhancing the species' survival.

Permit No. TE-02737B

Applicant: Susan B. Dewar, Rocklin, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with surveys throughout the range of each species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2013-11078 Filed 5-8-13; 8:45 am]

BILLING CODE 4310-55-P